DEPARTMENT OF DEFENSE

Office of the Secretary

[Docket ID DOD-2017-HA-0067]

Proposed Collection; Comment Request

AGENCY: Office of the Assistant Secretary of Defense for Health Affairs, DoD.

ACTION: 60-Day information collection notice.

SUMMARY: In compliance with the Paperwork Reduction Act of 1995, the Office of the Assistant Secretary of Defense for Health Affairs announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 26, 2018.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Healthcare Management Systems Modernization (DHMSM), 1501 Wilson Blvd., Room 810, Arlington VA 22209, or call (703) 588-5646.

SUPPLEMENTARY INFORMATION:

Title; Associated Form; and OMB Number: MHS GENESIS; OMB Control Number; 0720-XXXX.

Needs and Uses: The information collection requirement is necessary to provide and document medical care; determine eligibility for benefits and entitlements; adjudicate claims; determine whether a third party is responsible for the cost of MHS provided healthcare and recover that cost; and evaluate fitness for duty and medical concerns which may have resulted from an occupational or environmental hazard. Obtaining this information is essential for DoD to provide medical care and recover costs of providing that care.

Affected Public: Individuals or Households.

Annual Burden Hours: 3,348,727.

Number of Respondents: 2,870,338.

Responses per Respondent: 10.

Annual Responses: 28,703,380.

Average Burden per Response: 7 minutes.

Frequency: Annually and on occasion.

MHS GENESIS is the Department of Defense's (DoD) modernized electronic health record (EHR) and will provide access to authoritative clinical data sources, and over time will become the authoritative source of clinical data to support improved population health, patient safety, and quality of care to maximize medical readiness for the DoD. MHS GENESIS is expected to unify and increase accessibility of integrated, evidence-based healthcare delivery and decision-making. MHS GENESIS supports the availability of longitudinal medical records for over 9.6 million DoD beneficiaries and over 153,000 Military Health System (MHS) personnel globally. MHS GENESIS enables the application of standardized workflows, integrated healthcare delivery, and data standards for improved and secure electronic exchange of medical and patient data between the DoD and its external partners, including the Departments of Veterans Affairs (VA) and Health and Human Services (HHS) and private sector healthcare providers.

Dated: December 20, 2017.
Aaron Siegel,
Alternate OSD Federal Register, Liaison Officer, Department of Defense.

[FR Doc. 2017-27838 Filed 12-26-17; 8:45 am]

BILLING CODE 5001-06-P